ENVIRONMENTAL PROTECTION AGENCY

40 CFR Part 52

[EPA-R09-OAR-2024-0210; FRL-11949-01-R9]

Air Plan Approval; California; Mojave Desert Air Quality Management District; Replacing Outdated Requirements

AGENCY: Environmental Protection Agency (EPA).

ACTION: Proposed rule.

SUMMARY: The Environmental Protection Agency (EPA) is proposing to approve revisions to the Mojave Desert Air Quality Management District (MDAQMD or “District”) portion of the California State Implementation Plan (SIP). These revisions concern amended or rescinded prohibitory and administrative rules that regulate air pollutants under the Clean Air Act (CAA or “Act”). We are proposing to rescind numerous requirements from the District's portion of the California SIP because the requirements can be replaced by more current requirements. We are taking comments on this proposal and plan to follow with a final action.

DATES: Comments must be received on or before October 14, 2025.

ADDRESSES: Submit your comments, identified by Docket ID No. EPA-R09-OAR-2024-0210 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: La Kenya Evans-Hopper, EPA Region IX, 75 Hawthorne St., San Francisco, CA 94105; telephone number: (415) 972-3245; email address: evanshopper.lakenya@epa.gov.

SUPPLEMENTARY INFORMATION: Throughout this document, “we,” “us,” and “our” refer to the EPA.

Table of Contents

I. The State's Submittal

A. What is the background for this proposed action?

B. Which rules has the MDAQMD amended or rescinded?

C. Are there other versions of the rules?

D. What is the purpose of the rules?

II. The EPA's Evaluation and Action

A. How is the EPA evaluating the rules?

B. Do the rules meet the evaluation criteria?

C. Public Comment and Proposed Action

III. Incorporation by Reference

IV. Statutory and Executive Order Reviews

I. The State's Submittal

A. What is the background for this proposed action?

Under the CAA, the EPA has established National Ambient Air Quality Standards (NAAQS) for certain pervasive air pollutants, including, among others, ozone and particulate matter (PM). Under CAA section 110(a), states are required to adopt and submit SIPs to implement, maintain, and enforce the NAAQS. Under CAA section 107(d), the EPA has designated all areas of the country as attainment, nonattainment, or unclassifiable for the NAAQS. Areas designated as nonattainment must adopt and submit SIP revisions that, among other things, provide for attainment of the NAAQS by the applicable attainment date.

The MDAQMD regulates stationary sources of air pollution within California's “Mojave Desert Air Basin,” which lies within the previously designated “Southeast Desert Air Basin.” ¹ The MDAQMD's jurisdiction includes the desert portion of San Bernardino County and the far eastern portion of Riverside County.² The EPA has designated two areas in the San Bernardino County portion of the District as nonattainment areas for PM equal to or less than 10 microns in diameter (PM10): (1) the Trona planning area, located in the northwestern portion of the county, and (2) the larger San Bernardino nonattainment area that covers the remaining portion of San Bernardino County regulated by the MDAQMD, excluding the Trona planning area.³ A portion of San Bernardino County within the District is also in the West Mojave Desert ozone nonattainment area.⁴ The Riverside County portion of the District is designated as unclassifiable/attainment for all the NAAQS.

¹ The two air basins are described in the California Air Resources Board's (CARB's), “Initial Statement of Reasons for Proposed Rulemaking, Proposed Amendments to Divide the Southeast Desert Air Basin and to Modify the Boundary of the South Coast Air Basin and Proposed Amendments to the Related Agricultural Burning Regulations,” April 1996.

² San Bernardino County is a large county covering over 20,000 square miles, the majority of which is desert within the Mojave Desert (also known locally as the “High Desert” based on its elevation). MDAQMD's jurisdiction in the eastern portion of Riverside County is in the Palo Verde Valley area that is approximately 30 miles wide along the eastern boundary of the county adjoining the State of Arizona. See also, https://www.mdaqmd.ca.gov/about-us/district-boundaries.

³ 40 CFR 81.305—“California—PM-10” table of area designations.

⁴ 40 CFR 81.305. The West Mojave Desert ozone nonattainment area also includes the Antelope Valley portion of Los Angeles County.

In 1972, when the original California SIP was submitted and approved by the EPA, the San Bernardino County Air Pollution Control District (SBCAPCD) had jurisdiction over stationary sources within all of San Bernardino County, and the Riverside County Air Pollution Control District (RCAPCD) had jurisdiction over stationary sources within all of Riverside County. On July 16, 1975, the Los Angeles County Air Pollution Control District (LACAPCD), Orange County Air Pollution Control District (OCAPCD), RCAPCD, and SBCAPCD were unified into the Southern California Air Pollution Control District (“SoCalAPCD”). On February 1, 1977, California split the SoCalAPCD into four agencies. The western coastal area became regulated by the South Coast Air Quality Management District (SCAQMD) and the remaining eastern desert portions of Los Angeles, San Bernardino, and Riverside Counties were seperated back into air pollution control districts for each county (i.e., LACAPCD, SBCAPCD, and RCAPCD). The original jurisdiction of the SCAQMD covered an area referred to as the “South Coast Air Basin” that included all of Orange County and the western non-desert portions of Los Angeles, Riverside, and San Bernardino Counties. The jurisdiction of the LACAPCD, SBCAPCD, and RCAPCD extended over a portion of an air basin referred to as the “Southeast Desert Air Basin.” ⁵

⁵ 43 FR 25684 (June 14, 1978).

The Southeast Desert Air Basin portion of Riverside County was added to the SCAQMD on December 1, 1977. Effective December 1, 1977, under state law, all SCAQMD Rules and Regulations became applicable within the Southeast Desert Air Basin portion of Riverside County.⁶ In 1982, the applicability of SCAQMD rules that had been approved as part of the California SIP was extended to the Southeast Desert Air Basin portion of Riverside County.⁷ On July 1, 1993, the SBCAPCD was re-formed as the MDAQMD with jurisdiction in the desert portion of San Bernardino County. On July 1, 1994, the Palo Verde Valley area in far eastern Riverside County (and that is a part of the Southeast Desert Air Basin portion of Riverside County) left the SCAQMD and joined the MDAQMD.⁸ No changes to the District's boundaries have been made since 1994 and, as stated above, today the MDAQMD's jurisdiction is within the Mojave Desert Air Basin and consists of the desert portion of San Bernardino County and the Palo Verde Valley area in the far eastern portion of Riverside County.

⁶ Letter dated August 11, 1980, from Gary Rubenstein, Deputy Executive Officer, CARB to Paul DeFalco, Jr., EPA Regional Administrator.

⁷ 47 FR 25013 (June 9, 1982).

⁸ The Palo Verde Valley portion of the MDAQMD covers an area approximately 30 miles wide along the eastern boundary of the county adjoining the State of Arizona.

An outgrowth of the complicated regulatory history of the MDAQMD is that the applicable portion of the California SIP for the area that the District regulates consists of a mixture of rules from current and former agencies. Rules that have been adopted by the MDAQMD apply “District-wide,” meaning to the desert portion of San Bernardino County and the Palo Verde Valley area in the far eastern portion of Riverside County, while SBCAPCD rules apply only in the San Bernardino County portion of the District; and rules adopted by the RCAPCD, SoCalAPCD, or the SCAQMD only apply in the Riverside County portion of the District.

B. Which rules has the MDAQMD amended or rescinded?

The California Air Resources Board (CARB) submitted revisions to the MDAQMD portion of the California SIP, including MDAQMD rules and rescissions, to the EPA for approval on the following dates: September 23, 2022,⁹ November 30, 2022,¹⁰ May 11, 2023,¹¹ and January 10, 2024.¹² The purpose of these submissions is to align the SIP versions of the rules with the current versions in effect in the MDAQMD.¹³ In the May 11, 2023 submission, the MDAQMD clarified that the package of amended rules and rescissions that were submitted includes the rescission of all the existing SIP rules comprising SCAQMD “Regulation VII—Emergencies,” as applicable in the Riverside County portion of the MDAQMD.¹⁴ We have already taken action on some of the rules and rescissions included in these submissions,¹⁵ and we are proposing action herein on a second set of rules and rescissions. The remaining rules and rescissions included in these submissions will be addressed in separate, future rulemakings.

⁹ CARB submitted the SIP revision electronically on September 23, 2022 as an enclosure to a transmittal letter dated September 23, 2022.

¹⁰ CARB submitted the SIP revision electronically on November 30, 2022 as an enclosure to a transmittal letter dated November 22, 2022.

¹¹ CARB submitted the SIP revision electronically on May 11, 2023 as an enclosure to a transmittal letter dated May 10, 2023.

¹² CARB submitted the SIP revision electronically on January 10, 2024 as an enclosure to a transmittal letter dated December 27, 2023.

¹³ Letter dated November 22, 2022, from Steven S. Cliff, Ph.D., Executive Officer, CARB to Martha Guzman, Regional Administrator, EPA Region IX.

¹⁴ Email and attachments dated February 14, 2024, from Alan J. De Salvio (MDAQMD) to Jefferson Wehling (EPA, Subject: “SIP Cleanup Followup Items”; see also, MDAQMD, Final Staff Report, Amendments to MDAQMD Rule 701—Air Pollution Emergency Contingency Actions and Rescission of Rules 702, 703, 704, 705, 706, 707, 708, 709, 710, 711, and 712, amended on September 26, 2022, pp. 19.

¹⁵ 89 FR 96103 (December 4, 2024).

The current rulemaking is summarized in the tables below. Table 1 of this document lists the rules that are covered by this proposed action and submitted for approval as part of the MDAQMD portion of the SIP, with the dates they were adopted by the MDAQMD and submitted to the EPA by CARB. Table 2 of this document lists the rules submitted for rescission from the MDAQMD portion of the SIP (excluding Regulation VII rules) that are covered by this proposed action, with the dates that they were adopted by the MDAQMD, the dates they were submitted by CARB, and the dates (and associated Federal Register citations) that the rules were previously approved by the EPA. Table 3 of this document lists the rules from Regulation VII submitted for rescission that are associated with the applicable SIP for the San Bernardino County portion of the MDAQMD portion of the California SIP, and Table 4 of this document lists the rules from Regulation VII submitted for rescission that are associated with the applicable SIP for the Riverside County portion of the MDAQMD portion of the California SIP.

Table 1—Submitted Rules Used To Replace SIP Approved Rules
Local agency | Rule No. | Rule title | Adopted/amended date | Submittal date
MDAQMD | ᵃ 464 | Oil Water Separators | June 23, 2014 | January 10, 2024.
MDAQMD | 701 | Air Pollution Emergency Contingency Actions | September 26, 2022 | May 11, 2023.
MDAQMD | ᵃ 1102 | Fugitive Emissions of VOCs from Components at Pipeline Transfer Stations | October 26, 1994 | January 10, 2024.
MDAQMD | ᵃ 1114 | Wood Products Coating Operations | August 24, 2020 | January 10, 2024.
ᵃ The January 10, 2024 SIP submission requests re-approval of existing SIP MDAQMD Rules 464, 1102, and 1114 to extend the applicability of the SIP rule throughout the District. See CARB Executive Order S-23-018, dated December 27, 2023, Attachment A.

Table 2—Submitted Rule Rescissions
[Excluding Regulation VII rules]
Local agency and rule No. | Title | Adopted/amended date | SIP approval date and FR citation | Date of rescission by MDAQMD | Submittal date
SCAQMD Rule 405 ᵃ | Solid Particulate Matter—Weight | May 7, 1976 | September 28, 1981, 46 FR 47451 | February 28, 2022 | May 11, 2023.
SCAQMD Rule 409 | Combustion Contaminants | August 7, 1981 | July 6, 1982, 47 FR 29231 | April 25, 2022 | May 11, 2023.
SoCalAPCD Rule 432 ᵃ | Gasoline Specifications | May 7, 1976 | June 14, 1978, 43 FR 25684 | April 25, 2022 | September 23, 2022.
SBCAPCD Rule 432 | Gasoline Specifications | February 1, 1977 | September 8, 1978, 43 FR 40011 | April 25, 2022 | September 23, 2022.
SCAQMD Rule 464 ᵃ | Wastewater Separators | April 4, 1980 | January 21, 1981, 46 FR 5965 | August 28, 2023 | January 10, 2024.
SoCalAPCD Rule 464 | Oil and Water Separators | May 7, 1976 | June 14, 1978, 43 FR 25684 | August 28, 2023 | January 10, 2024.
SCAQMD Rule 466 | Pumps and Compressors | October 7, 1983 | January 15, 1987, 52 FR 1627 | June 26, 2023 | January 10, 2024.
SBCAPCD Rule 466 | Pumps and Compressors | February 1, 1977 | September 8, 1978, 43 FR 40011 | June 26, 2023 | January 10, 2024.
SCAQMD Rule 466.1 | Valves and Flanges | May 2, 1980 | July 8, 1982, 47 FR 29668 | June 26, 2023 | January 10, 2024.
SCAQMD Rule 467 | Pressure Relief Devices | March 5, 1982 | November 16, 1983, 48 FR 52054 | June 26, 2023 | January 10, 2024.
SBCAPCD Rule 467 | Pressure Release Devices | February 1, 1977 | September 8, 1978, 43 FR 40011 | June 26, 2023 | January 10, 2024.
SoCalAPCD Rule 470 ᵃ ᵇ | Asphalt Air Blowing | May 7, 1976 | June 14, 1978, 43 FR 25684 | August 22, 2022 | November 30, 2022.
SBCAPCD Rule 470 | Asphalt Air Blowing | February 1, 1977 | September 8, 1978, 43 FR 40011 | August 22, 2022 | November 30, 2022.
SBCAPCD Rule 480 | Natural Gas Fired Control Devices | February 20, 1979 | January 27, 1981, 46 FR 8471 | September 26, 2022 | May 11, 2023.
SCAQMD Rule 1101 ᵃ | Secondary Lead Smelters/Sulfur Oxides | October 7, 1977 | September 2, 1981, 46 FR 43968 | June 26, 2023 | January 10, 2024.
SCAQMD Rule 1104 | Wood Flat Stock Coatings Operations | March 1, 1991 | June 23, 1994, 59 FR 32354 | August 28, 2023 | January 10, 2024.
SCAQMD Rule 1175 | Control of Emissions from the Manufacture of Polymeric Cellular (Foam) Products | January 5, 1990 | October 26, 1992, 57 FR 48457 | September 25, 2023 | January 10, 2024.
SCAQMD Rule 1176 | Sumps and Wastewater Separators | January 5, 1990 | October 26, 1992, 57 FR 48457 | August 28, 2023 | January 10, 2024.
ᵃ SIP applicability was extended to the Southeast Desert Air Basin portion of Riverside County effective June 9, 1982. See 47 FR 25013 (June 9, 1982).
ᵇ The November 30, 2022 SIP submission also listed SCAQMD Rule 470. However, the version of Rule 470 that is currently part of the SIP for the Riverside County portion of the MDAQMD was adopted by the SoCalAPCD.

Table 3—Submitted Rule Rescissions
[Regulation VII rules applicable in the San Bernardino County portion of the MDAQMD]
Local agency and rule No. | Title | Adopted/amended date | SIP approval date and FR citation | Date of rescission by MDAQMD | Submittal date
SBCAPCD Rule 702 | Air Monitoring Stations | July 25, 1977 | June 3, 1980, 45 FR 37428 | September 26, 2022 | May 11, 2023.
SBCAPCD Rule 703 | Air Monitoring Summaries | February 1, 1977 | June 3, 1980, 45 FR 37428 | September 26, 2022 | May 11, 2023.
SBCAPCD Rule 704 | Episode Criteria | September 26, 1977 | June 21, 1982, 47 FR 26618 | September 26, 2022 | May 11, 2023.
SBCAPCD Rule 705 | Episode Notification | September 26, 1977 | June 21, 1982, 47 FR 26618 | September 26, 2022 | May 11, 2023.
SBCAPCD Rule 706 | Episode Declaration | February 1, 1977 | June 3, 1980, 45 FR 37428 | September 26, 2022 | May 11, 2023.
SBCAPCD Rule 707 | First Stage Episode Actions | September 26, 1977 | June 21, 1982, 47 FR 26618 | September 26, 2022 | May 11, 2023.
SBCAPCD Rule 708 | Second Stage Episode Actions | September 26, 1977 | June 21, 1982, 47 FR 26618 | September 26, 2022 | May 11, 2023.
SBCAPCD Rule 709 | Third Stage Episode Actions | September 26, 1977 | June 21, 1982, 47 FR 26618 | September 26, 2022 | May 11, 2023.
SBCAPCD Rule 710 | Inter-district Coordination | September 26, 1977 | June 21, 1982, 47 FR 26618 | September 26, 2022 | May 11, 2023.
SBCAPCD Rule 711 | Termination of Episodes | September 26, 1977 | June 21, 1982, 47 FR 26618 | September 26, 2022 | May 11, 2023.
SBCAPCD Rule 712 | Advisory Council | September 26, 1977 | June 21, 1982, 47 FR 26618 | September 26, 2022 | May 11, 2023.

Table 4—Submitted Rule Rescissions
[Regulation VII rules applicable in the Riverside County Portion of the MDAQMD]
Local agency and rule No. | Title | Adopted/amended date | SIP approval date and FR citation ᵃ | Date of rescission by MDAQMD | Submittal date
SCAQMD Rule 701 | General | April 4, 1980 | September 28, 1981, 46 FR 47451 | September 26, 2022 | May 11, 2023.
SCAQMD Rule 702(a), (d), (e), (f), (h) and (i) | Definitions | April 4, 1980 | September 28, 1981, 46 FR 47451 | September 26, 2022 | May 11, 2023.
SCAQMD Rule 702(b) | Definitions | July 11, 1980 | September 28, 1981, 46 FR 47451 | September 26, 2022 | May 11, 2023.
SCAQMD Rule 702(c) | Definitions | May 6, 1977 | May 26, 1978, 43 FR 22719 | September 26, 2022 | May 11, 2023.
SCAQMD Rule 702 (map only) | Definitions | July 8, 1977 | December 21, 1978, 43 FR 59490 | September 26, 2022 | May 11, 2023.
SCAQMD Rule 703 | Episode Criteria | April 4, 1980 | September 28, 1981, 46 FR 47451 | September 26, 2022 | May 11, 2023.
SCAQMD Rule 704 | Episode Declaration | April 4, 1980 | September 28, 1981, 46 FR 47451 | September 26, 2022 | May 11, 2023.
SCAQMD Rule 705 | Termination of Episodes | April 4, 1980 | September 28, 1981, 46 FR 47451 | September 26, 2022 | May 11, 2023.
SCAQMD Rule 706 | Episode Notification | April 4, 1980 | September 28, 1981, 46 FR 47451 | September 26, 2022 | May 11, 2023.
SCAQMD Rule 707 | Radio Communication System | July 11, 1980 | September 28, 1981, 46 FR 47451 | September 26, 2022 | May 11, 2023.
SCAQMD Rule 708 | Plans | July 11, 1980 | September 28, 1981, 46 FR 47451 | September 26, 2022 | May 11, 2023.
SCAQMD Rule 708.1 | Stationary Sources Required to File Plans | May 6, 1977 | May 26, 1978, 43 FR 22719 | September 26, 2022 | May 11, 2023.
SCAQMD Rule 708.2 | Content of Stationary Source Curtailment Plans | July 8, 1977 | December 21, 1978, 43 FR 59490 | September 26, 2022 | May 11, 2023.
SCAQMD Rule 708.3 | Transportation Management Plans | July 9, 1982 | June 1, 1983, 48 FR 24362 | September 26, 2022 | May 11, 2023.
SCAQMD Rule 708.4(a) and (b) | Procedural Requirements for Plans | July 11, 1980 | September 28, 1981, 46 FR 47451 | September 26, 2022 | May 11, 2023.
SCAQMD Rule 708.4(c), (d), (e), and (f) | Procedural Requirements for Plans | May 6, 1977 | May 26, 1978, 43 FR 22719 | September 26, 2022 | May 11, 2023.
SCAQMD Rule 708.4(g) and (h) | Procedural Requirements for Plans | April 4, 1980 | September 28, 1981, 46 FR 47451 | September 26, 2022 | May 11, 2023.
SCAQMD Rule 709(a) | First Stage Episode Actions | April 4, 1980 | September 28, 1981, 46 FR 47451 | September 26, 2022 | May 11, 2023.
SCAQMD Rule 709(b), (d), (f), and (g) | First Stage Episode Actions | May 6, 1977 | May 26, 1978, 43 FR 22719 | September 26, 2022 | May 11, 2023.
SCAQMD Rule 709(c) | First Stage Episode Actions | February 1, 1980 | September 28, 1981, 46 FR 47451 | September 26, 2022 | May 11, 2023.
SCAQMD Rule 709(e) | First Stage Episode Actions | July 11, 1980 | September 28, 1981, 46 FR 47451 | September 26, 2022 | May 11, 2023.
SCAQMD Rule 710(a) and (b)(4) | Second Stage Episode Actions | April 4, 1980 | September 28, 1981, 46 FR 47451 | September 26, 2022 | May 11, 2023.
SCAQMD Rule 710(b)(1)(A)-(C), (b)(2)(A)-(C), (b)(3)(A), (c)(1), (c)(2), and (c)(3)(A) | Second Stage Episode Actions | May 6, 1977 | May 26, 1978, 43 FR 22719 | September 26, 2022 | May 11, 2023.
SCAQMD Rule 710(b)(1)(D), (b)(2)(D), (b)(3)(B), and (c)(3)(B) | Second Stage Episode Actions | July 11, 1980 | September 28, 1981, 46 FR 47451 | September 26, 2022 | May 11, 2023.
SCAQMD Rule 711(a)(1), (a)(4), (b)(1) and (b)(4) | Third Stage Episode Actions | April 4, 1980 | September 28, 1981, 46 FR 47451 | September 26, 2022 | May 11, 2023.
SCAQMD Rule 711(b)(2)(A) and (B), (b)(3)(A), (c)(2)(A) and (B), and (c)(3)(A) | Third Stage Episode Actions | May 6, 1977 | May 26, 1978, 43 FR 22719 | September 26, 2022 | May 11, 2023.
SCAQMD Rule 711(a)(1)(E), (a)(2)(D), (a)(3)(B), (a)(4)(F), (b)(3)(B), and (b)(4)(F) | Third Stage Episode Actions | July 11, 1980 | September 28, 1981, 46 FR 47451 | September 26, 2022 | May 11, 2023.
SCAQMD Rule 713 | Interdistrict Coordination | April 4, 1980 | September 28, 1981, 46 FR 47451 | September 26, 2022 | May 11, 2023.
SCAQMD Rule 714 | Source Inspections | April 4, 1980 | September 28, 1981, 46 FR 47451 | September 26, 2022 | May 11, 2023.
SCAQMD Rule 715 | Burning of Fossil Fuel on Episode Days | April 4, 1980 | September 28, 1981, 46 FR 47451 | September 26, 2022 | May 11, 2023.
ᵃ With the exception of SCAQMD Rule 708.3, the applicability of SCAQMD rules that had been approved as part of the California SIP was extended to the Southeast Desert portion of Riverside County through the EPA's final action published at 47 FR 25013 (June 9, 1982). The July 9, 1982 version of SCAQMD Rule 708.3 became part of the applicable SIP for the SCAQMD, including the Southeast Desert portion of Riverside County in 1983.

The September 23, 2022, November 30, 2022, May 11, 2023, and January 10, 2024 SIP submissions were deemed complete by operation of law with respect to the completeness criteria in 40 CFR part 51, appendix V on March 23, 2023, May 30, 2023, November 11, 2023, and July 10, 2024, respectively.

C. Are there other versions of the rules?

We approved an earlier version of MDAQMD Rule 701 as listed in Table 1 of this document that had been adopted by the MDAQMD's predecessor agency, the SBCAPCD. SBCAPCD Rule 701 was locally approved on September 26, 1977, and approved into the SIP on June 21, 1982.¹⁶ If we finalize this rulemaking as proposed, then the SBCAPCD Rule 701 will be superseded in the applicable SIP by MDAQMD Rule 701. For the remaining rules listed in Table 1 of this document, MDAQMD Rules 464, 1102, and 1114, the EPA previously approved these versions into the SIP. These SIP rules are already federally enforceable District-wide because the EPA's approval occurred after the District's boundaries were finalized in 1994. As such, we propose no further action on MDAQMD Rules 464, 1102 and 1114 is needed at the present time.

¹⁶ 47 FR 26618, June 21, 1982.

D. What is the purpose of the rules?

Emissions of volatile organic compounds (VOC) and oxides of nitrogen (NOX) contribute to the production of ground-level ozone, which harm human health and the environment. Emissions of PM, including PM equal to or less than 2.5 microns in diameter (PM2.5) and PM equal to or less than 10 microns in diameter (PM10), contribute to effects that are harmful to human health and the environment, including premature mortality, aggravation of respiratory and cardiovascular disease, decreased lung function, visibility impairment, and damage to vegetation and ecosystems.

CAA section 110(a)(2) requires states to submit regulations that control emissions of criteria air pollutants or their precursors, including VOCs, NOX, and PM, as part of the SIP. Over the years, MDAQMD's predecessor agency, the SBCAPCD, adopted many administrative and prohibitory rules to meet SIP requirements, including those that are the subject of this proposed action, for the San Bernardino County portion of the MDAQMD portion of the California SIP. The RCAPCD, SoCalAPCD, and SCAQMD did the same for the Riverside County portion of the MDAQMD portion of the California SIP. The purpose of the SIP submissions in this rulemaking is to align the SIP versions of the rules applicable in these areas with those that are currently in effect in the MDAQMD, the agency that currently has jurisdiction to regulate these areas.

The EPA's technical support documents (TSDs) have more information about these rules. We have prepared one TSD for MDAQMD Rule 701 and related Regulation VII rule rescissions and a second TSD for all the other MDAQMD rules and rule rescissions included in this rulemaking.

II. The EPA's Evaluation and Action

A. How is the EPA evaluating the rules?

Under CAA section 110(l), SIP revisions must be adopted by the state, and the state must provide for reasonable public notice and hearing prior to adoption.¹⁷ Emissions limitations in the SIP must be enforceable (see CAA section 110(a)(2)), must not interfere with applicable requirements concerning attainment and reasonable further progress or other CAA requirements (see CAA section 110(l)), and must not modify certain SIP control requirements in nonattainment areas without ensuring equivalent or greater emissions reductions (see CAA section 193). In approving new requirements into the SIP or removing existing requirements from the SIP, we consider whether these CAA requirements are met.

¹⁷ The EPA has reviewed the SIP submissions covered in this proposed action for compliance with CAA procedural requirements and found that all such requirements have been met.

Generally, SIPs must require implementation of reasonably available control technology (RACT) for each category of sources covered by a Control Techniques Guidelines (CTG) document as well as each major source of VOCs and NOX in ozone nonattainment areas classified as Moderate or above (see CAA section 182(b)(2) and 182(f)). A portion of the San Bernardino County portion of the MDAQMD is part of an ozone nonattainment area (referred to as “West Mojave Desert”) that is classified as “Severe” for the 2008 and 2015 ozone NAAQS.¹⁸ SIPs must also implement reasonably available control measures (RACM), including RACT, in “Moderate” PM2.5/PM10 nonattainment areas (see CAA sections 172(c)(1) and 189(a)(1)(C)). The two PM10 nonattainment areas in the District are classified as Moderate (the Trona planning area and the remaining portion of San Bernardino County regulated by the MDAQMD, excluding the Trona planning area). Prior to rescinding requirements from the SIP, we consider whether the rescission would cause CAA requirements such as these to no longer be met. However, in this rulemaking, we are not evaluating the adequacy of the SIP under CAA sections 172(c)(1), 182(b)(2), 182(f), or 189(a)(1)(C). Such evaluations are generally performed in the context of our review of broader attainment plan SIP submittals.

¹⁸ 40 CFR 81.305.

Guidance and policy documents that we used to evaluate enforceability, revision/relaxation, and rule stringency requirements for the applicable criteria pollutants include the following:

1. “Issues Relating to VOC Regulation Cutpoints, Deficiencies, and Deviations,” EPA, May 25, 1988 (the Bluebook, revised January 11, 1990).

2. “Guidance Document for Correcting Common VOC & Other Rule Deficiencies,” EPA Region 9, August 21, 2001 (the Little Bluebook).

3. Letter dated February 12, 1990, from Johnnie L. Pearson, Chief Regional Activities Section, ROB (MD-15), to Chief, Air Branch, Region I-X, Subject: “Review of State Regulation Recodifications.”

B. Do the rules meet the evaluation criteria?

The purpose of the submission of the MDAQMD rules and rescissions is to align the versions of the rules that are part of the SIP with the versions found in the current District rulebook. The rules that are the subject of this rulemaking can be organized into two categories. The first category includes rescissions of rules from the MDAQMD portion of the California SIP adopted by SBCAPCD, SoCalAPCD, or SCAQMD that can be replaced by the requirements in MDAQMD rules that we are either proposing to approve in this rulemaking or that we have previously approved. The second category includes rescissions of rules that were adopted by SBCAPCD, SoCalAPCD, or SCAQMD and that have been submitted for rescission without replacement by a corresponding MDAQMD rule. The following is a summary of our analysis. Our TSDs have more information on our analysis of the rules.

Category 1—Rescission or Supersession of Previously-Approved Rules With MDAQMD Rules

1. Rescission of SCAQMD Rule 405, “Solid Particulate Matter—Weight,” and Replacement With MDAQMD Rule 405, “Solid Particulate Matter—Weight”

We are proposing to approve the rescission of SCAQMD Rule 405 from the Riverside County portion of the MDAQMD portion of the California SIP because it can be replaced by the requirements of MDAQMD Rule 405. The EPA previously approved MDAQMD Rule 405 in December 2024.¹⁹ A comparison of the two rules shows that the requirements would be unchanged in the Riverside County portion of the MDAQMD except for equipment completed and put into service before July 1, 1976. However, any such equipment is not subject to SCAQMD Rule 405's emissions limitation because the equipment either has gas-fired combustion with minimal solid particulate emissions or is controlled by a baghouse and limited by MDAQMD Rule 404, “Particulate Matter Concentration,” or stack opacity limits. The EPA previously approved MDAQMD Rule 404 in December 2024.²⁰ Thus, the rescission of SCAQMD Rule 405 would not interfere with attainment and RFP or any other requirement of the Act for the purposes of CAA section 110(l).

¹⁹ 89 FR 96103 (December 4, 2024).

²⁰ Id.

2. Rescission of SCAQMD Rule 409, “Combustion Contaminants,” and Replacement With MDAQMD Rule 409, “Combustion Contaminants”

We are proposing to approve the rescission of SCAQMD Rule 409 from the Riverside County portion of the MDAQMD portion of the California SIP because it can be replaced by MDAQMD Rule 409. The EPA previously approved MDAQMD Rule 409 in December 2024.²¹ MDAQMD Rule 409 has the same emissions limit as SCAQMD Rule 409, and in the staff report for the rescission of SCAQMD Rule 409, the MDAQMD explained that MDAQMD Rule 409 applies more broadly because it does not include the internal combustion engine exclusion that exists in SCAQMD Rule 409.²² Thus, the rescission of SCAQMD Rule 409 would not interfere with attainment and RFP or any other requirement of the Act for the purposes of CAA section 110(l).

²¹ 89 FR 96103 (December 4, 2024).

²² MDAQMD, Staff Report, “Rescission of SCAQMD Rule 409 — Combustion Contaminants from the SIP for the Blythe/Palo Verde Valley portion of the MDAQMD in Riverside County and replace it with the current MDAQMD Rule 409 ‐ Combustion Contaminants,” April 25, 2022, pp. 7.

3. Rescission of SCAQMD Rule 464, “Wastewater Separators,” and SoCalAPCD Rule 464, “Oil and Water Separators,” and Replacement With MDAQMD Rule 464, “Oil Water Separators”

In response to this request, we are proposing that no action is necessary to rescind SoCalAPCD Rule 464 and SCAQMD Rule 464 because these rules were rescinded from the Riverside County portion of the MDAQMD portion of the California SIP in previous actions. SoCalAPCD Rule 464 was replaced by SCAQMD Rule 464 in 1981 and SCAQMD Rule 464 was replaced by MDAQMD Rule 464 in 1995.²³ Further, the submitted version of MDAQMD Rule 464 is the same version the EPA has already approved into the SIP and no further action is needed to approve this rule for the MDAQMD portion of the California SIP.²⁴ However, in our 1981 and 1995 actions we did not revise the section of the Code of Federal Regulations (CFR) that contains the California SIP to reflect these replacements. We are proposing to correct this error by amending the CFR to reflect our prior actions to rescind SoCalAPCD Rule 464 and SCAQMD Rule 464 from the MDAQMD portion of the California SIP.

²³ 46 FR 5965 (January 21, 1981) and 60 FR 49772 (September 27, 1995), respectively.

²⁴ MDAQMD Rule 464, “Oil Water Separators” as amended on June 23, 2014, was SIP-approved June 5, 2015 at (80 FR 32026). The EPA's 2015 approval of the June 23, 2014 version of MDAQMD Rule 464 replaced the previously-approved version of MDAQMD Rule 464 in the MDAQMD portion of the applicable California SIP. The June 23, 2014 version of MDAQMD Rule 464 is the current version of the rule in the MDAQMD portion of the applicable California SIP.

4. Rescission of SCAQMD Rule 1176, “Sumps and Wastewater Separators,” and Replacement With MDAQMD Rule 464, “Oil Water Separators”

The EPA is proposing approval of the rescission of SCAQMD Rule 1176 from the Riverside County portion of the MDAQMD portion of the California SIP because it has been replaced by MDAQMD Rule 464. As applicable to the MDAQMD portion of the California SIP, the EPA approved SCAQMD Rule 1176 in 1992.²⁵ In the January 10, 2024 SIP submittal, the MDAQMD explained that, while SCAQMD Rule 1176 is primarily applicable to the petroleum refinery industry, it can also be applied to other similar equipment in different source categories.²⁶ The MDAQMD also explained that the District has adopted Federal Negative Declarations certifying that the petroleum refinery industry is not present within its jurisdiction.²⁷ The MDAQMD concluded that the District is only required to have a RACT rule for such other similar equipment, that MDAQMD Rule 464 provides such regulation, and that rescission of SCAQMD Rule 1176 is warranted on that basis.²⁸

²⁵ 57 FR 48457 (October 26, 1992).

²⁶ MDAQMD Staff Report, “State Implementation Plan Clean Up: Rescission of SCAQMD Rule 1176—Sumps and Wastewater Separators and Rule 464—Wastewater Separators as it appears in the SIP for the Blythe/Palo Verde Valley portion of the MDAQMD in Riverside County and replacement with the current SIP approved MDAQMD Rule 464—Oil Water Separators and Various Federal Negative Declarations,” dated August 28, 2023, pp. 2.

²⁷ Id. The MDAQMD has EPA approved Federal Negative Declarations for the following CTG associated with petroleum refineries: “Control of Volatile Organic Compound Leaks from Petroleum Refinery Equipment,” EPA-450/2-78-036, June 1978, and “Control of Refinery Vacuum Producing Systems, Wastewater Separators, and Process Unit Turnarounds,” EPA-450/2-77-025, October 1977.

²⁸ Id. at 2 and 3.

We agree with the MDAQMD's evaluation and conclusion, but we also note that the Riverside County portion of the MDAQMD is not subject to the RACT requirement because it is unclassifiable/attainment for all the NAAQS. As such, the rescission of SCAQMD Rule 1176 would not interfere with attainment and RFP or any other requirement of the Act for the purposes of CAA section 110(l).

5. Rescission of SBCAPCD Rules 702-714 and SCAQMD Regulation VII Rules and Replacement With MDAQMD Rule 701, “Air Pollution Emergency Contingency Actions”

The EPA is proposing to rescind SBCAPCD Rules 702-714 (see Table 3 of this proposed rulemaking) and SCAQMD Regulation VII Rules (see Table 4 of this proposed rulemaking) because they can be replaced by our proposed approval of MDAQMD Rule 701. These rules relate to contingency plans to address air pollution emergency episodes under CAA section 110(a)(2)(G). Currently, the emergency episode contingency plan requirements for MDAQMD are provided through SBCAPCD Regulation VII rules approved by the EPA in 1980 and 1982 for the San Bernardino County portion of the MDAQMD and SCAQMD Regulation VII rules approved by the EPA in 1978, 1981 and 1983 for the Riverside County portion of the MDAQMD.²⁹ The emergency episode contingency plan rules approved for the SBCAPCD and SCAQMD for the MDAQMD are supplemented by the EPA's emergency episode contingency plan FIP promulgated at 40 CFR 52.274(p).

²⁹ 43 FR 22719 (May 26, 1978), 43 FR 59490 (December 21, 1978), 45 FR 37428 (June 3, 1980), 46 FR 47451 (September 28, 1981), 47 FR 26618 (June 21, 1982) and 48 FR 24362 (June 1, 1983).

On September 26, 2022, MDAQMD adopted amendments to Rule 701 that update and consolidate the emergency episode contingency plan rules that had been codified as SBCAPCD Regulation VII, Rules 701 through 714.³⁰ As such, the amended Rule 701 represents an improvement in the existing SIP and, thus, we are proposing approval of MDAQMD Rule 701 and rescission of SBCAPCD Rules 702-714 and SCAQMD Regulation VII Rules because the amended emergency episode contingency plan rule would strengthen the SIP if approved.

³⁰ SBCAPCD Rule 707, “First Stage Episode Actions,” revised September 26, 1977, SIP-approved June 21, 1982 (47 FR 26618) and SBCAPCD Rule 707, “Plans,” adopted February 1, 1977, SIP-approved June 3, 1980 (45 FR 37428). The latter SBCAPCD Rule 707 is unaffected by this proposed action and remains in the SIP.

The SIP submission did not request that these rule revisions be used as a basis to remove the existing FIP related to emergency episode contingency plans applicable within the District. Nonetheless, the EPA compared the amended MDAQMD Rule 701 with the requirements in 40 CFR 51.152 and found that amended MDAQMD Rule 701 meets some of the applicable requirements but not all of them. Our TSD for MDAQMD Rule 701 includes recommendations for revisions to MDAQMD Rule 701 that could allow for the removal of the FIP in the future.

6. Rescission of SBCAPCD Rule 466, “Pumps and Compressors,” SBCAPCD Rule 467, “Pressure Relief Devices,” SCAQMD Rule 466, “Pumps and Compressors,” SCAQMD Rule 466.1, “Valves and Flanges,” and SCAQMD Rule 467, “Pressure Relief Devices,” and Replacement With SIP-Approved MDAQMD Rule 1102, “Fugitive Emissions of VOCs from Components at Pipeline Transfer Stations”

The EPA approved SBCAPCD Rules 466 and 467 in 1978.³¹ In 1999, the EPA approved a request from MDAQMD to remove SBCAPCD Rules 466 and 467 from the SIP.³² Thus, SBCAPCD Rules 466 and 467 are no longer a part of the San Bernardino County portion of the MDAQMD portion of the California SIP, and no further action is warranted in response to CARB's request for rescission of these two rules.

³¹ 43 FR 40011 (September 8, 1978).

³² 64 FR 45175 (August 19, 1999); corrected at 69 FR 2509 (January 16, 2004). Also, see 40 CFR 52.220(c)(39)(ii)(G).

SCAQMD Rules 466, 466.1, and 467 became applicable to the Riverside County portion of the MDAQMD portion of the California SIP when they were approved by the EPA in 1987, 1982, and 1983, respectively.³³ SCAQMD Rules 466.1 and 467 apply to refineries and chemical plants, and SCAQMD Rule 466 applies more generally to “any pump or compressor handling reactive organic compounds.” ³⁴ The MDAQMD provided a document ³⁵ individually comparing SCAQMD Rules 466, 466.1, and 467 to SIP-approved MDAQMD Rules 446, 467, and 1102 that shows that the requirements in MDAQMD Rule 1102 are generally the same as or more stringent than those in the SCAQMD Rules and concluded that there is no need to retain SCAQMD Rules 466, 466.1, and 467 in the Riverside County portion of the MDAQMD portion of the California SIP.³⁶ The EPA agrees with this assessment and finds that the rescission of SCAQMD Rules 466, 466.1, and 467 would not interfere with attainment and RFP or any other requirement of the Act for the purposes of CAA section 110(l). We, therefore, are proposing approval of the rescission of SCAQMD Rules 446, 466.1, and 467 from the Riverside County portion of the MDAQMD portion of the California SIP.

³³ 52 FR 1627 (January 15, 1987); 47 FR 29668 (July 8, 1982); 48 FR 52054 (November 16, 1983).

³⁴ SCAQMD Rule 466(b)(1).

³⁵ MDAQMD Staff Report, “State Implementation Plan Clean Up: Rescission of SCAQMD Rules 466—Pumps and Compressors, 466.1—Valves and Flanges and 467—Pressure Relief Devices as they appear in the SIP for the Blythe/Palo Verde Valley portion of the MDAQMD; Remove previously rescinded MDAQMD Rules 466—Pumps and Compressors and 467—Pressure Relief Devices from the SIP for the San Bernardino County portion of the MDAQMD; and acknowledge the replacement of all rules with the SIP approved MDAQMD Rule 1102—Fugitive Emissions of VOCs from Components at Pipeline Transfer Stations and various Federal Negative Declarations,” dated June 26, 2023, pp. 2 and 3.

³⁶ Email and attachments dated April 9, 2025, from Chris Anderson (MDAQMD) to Lisa Beckham (EPA), Subject: FW: Background Documents for SCAQMD 466, 466.1 and 467 SIP Cleanup,” attached document titled “Rule Comparison Tables,” pp. 1-7.

7. MDAQMD Rule 1114, “Wood Products Coating Operations,” and Rescission of SCAQMD Rule 1104, “Wood Flat Stock Coating Operations”

SCAQMD Rule 1104 became applicable to the Riverside County portion of the MDAQMD portion of the California SIP when it was approved by the EPA in 1994.³⁷ A comparison between MDAQMD Rule 1114 and SCAQMD Rule 1104 reveals that SCAQMD Rule 1104 includes more stringent control requirements for some sources covered therein compared to the control requirements for those sources under MDAQMD Rule 1114. However, a comparison of SCAQMD Rule 1104 with the approved Federal Negative Declarations ³⁸ for MDAQMD shows that there are no such sources in the MDAQMD. The remainder of the control requirements in SCAQMD Rule 1104 are comparable to, and less stringent than, the control requirements in MDAQMD 1114. The EPA also confirmed that there are no wood panel manufacturing facilities, as applicable to SCAQMD Rule 1104, in the Riverside County portion of the MDAQMD via Standard Industrial Classification (SIC) codes and CARB's facility search tool in CARB's California Emissions Inventory Data Analysis and Reporting System (CEIDARS) emissions database.³⁹ Thus, the rescission of SCAQMD Rule 1104 would not interfere with any applicable requirement concerning attainment, reasonable further progress, or any other applicable requirement of the Act for the purposes of CAA section 110(l). Therefore, the EPA is proposing to approve the rescission of SCAQMD Rule 1104.

³⁷ 59 FR 32354 (June 23, 1994).

³⁸ The MDAQMD has EPA approved Federal Negative Declarations for the following CTGs associated with flat wood paneling, “Control of Volatile Organic Emissions from Existing Stationary Sources—Volume VII: Factory Surface Coating of Flat Wood Paneling,” EPA-450/2-78-032, June 1978, and “Control Techniques Guidelines of Flat Wood Paneling Coatings,” EPA-453/R-06-004, September 2006.

³⁹ CARB's CEIDARS emissions database allows the public to search for stationary point criteria pollutant and air toxic emissions. The SIC codes that were used for this search are: 2431, “Millwork,” 2434, “Wood Kitchen Cabinets,” 2435, “Hardwood Veneer and Plywood,” 2436, “Softwood Veneer and Plywood,” 2493, “Reconstituted Wood Products,” 2499, “Wood Products, Not Elsewhere Classified,” and 5031, “Lumber, Plywood, Millwork, and Wood Panels.”

Category 2—Rules Submitted for Rescission Without Replacement by MDAQMD Rules

1. Rescission of SoCalAPCD Rule 432, “Gasoline Specifications,” and SBCAPCD Rule 432, “Gasoline Specifications”

The MDAQMD indicates that SoCalAPCD Rule 432 and SBCAPCD Rule 432 are no longer needed in the MDAQMD portion of the California SIP because the specifications for gasoline contained in the rules have been superseded in the SIP by CARB's Reformulated Gasoline Regulation.⁴⁰ The EPA approved CARB's Reformulated Gasoline Regulation as part of the California SIP in 2010.⁴¹ The EPA agrees that CARB's Reformulated Gasoline Regulation has superseded the specifications for gasoline in SoCalAPCD Rule 432 and SBCAPCD Rule 432 and that EPA's approval of CARB's Reformation Gasoline Regulation has eliminated any need to retain SoCalAPCD Rule 432 or SBCAPCD Rule 432 in the MDAQMD portion of the California SIP. As such, we find that the rescissions of SoCalAPCD Rule 432 and SBCAPCD Rule 432 would not interfere with attainment and RFP or any other requirement of the Act for the purposes of CAA section 110(l). Therefore, the EPA is proposing to approve the rescissions of SoCalAPCD Rule 432 and SBCAPCD Rule 432 from the Riverside County and San Bernardino County portions of the MDAQMD portion of the California SIP, respectively.

⁴⁰ MDAQMD, Final Staff Report, Rescission of Rule 432—Gasoline Specifications and Removal of the Rule from the State Implementation Plan for both the San Bernardino and Riverside County portions of the MDAQMD, April 25, 2022, pp. 2.

⁴¹ 75 FR 26653 (May 12, 2010).

2. Rescission of SBCAPCD Rule 470, “Asphalt Air Blowing” and SoCalAPCD Rule 470, “Asphalt Air Blowing”

The MDAQMD states that there are no asphalt air blowing sources located within the San Bernardino County portion of the MDAQMD, and it also confirmed that there are no asphalt air blowing sources located within the Riverside County portion of the MDAQMD.⁴² On that basis, the EPA finds that the rescissions of SBCAPCD Rule 470 and SoCalAPCD Rule 470 would not interfere with attainment and RFP or any other requirement of the Act for the purposes of CAA section 110(l). Therefore, the EPA is proposing to approve the rescissions of both SBCAPCD Rule 470 and SoCalAPCD Rule 470 from the San Bernardino County and Riverside County portions of the MDAQMD portion of the California SIP, respectively.

⁴² Email and attachments dated February 14, 2024, from Alan J. De Salvio (MDAQMD) to Jefferson Wehling (EPA), Subject: “SIP Cleanup Followup Items.”

3. Rescission of SBCAPCD Rule 480, “Natural Gas Fired Control Devices”

SBCAPCD Rule 480 applies in the San Bernardino County portion of the MDAQMD. The MDAQMD's staff report indicates that the SBCAPCD originally adopted Rule 480 allegedly to “reduce potential variance applications” in case of a natural gas shortage or curtailment.⁴³ In the staff report for SBCAPCD Rule 480, the MDAQMD notes that there are at least six natural gas-fired control devices within the MDAQMD, and of these, none has a Rule 480 plan on file.⁴⁴ In the case of a natural gas shortage or curtailment, facilities have certain options available to them, including seeking a variance, regardless of the existence or non-existence of a Rule 480 plan. The MDAQMD concludes that Rule 480 is thus unused, unnecessary, and duplicative of already existing permit conditions as well as the MDAQMD's Hearing Board variance process.⁴⁵

⁴³ MDAQMD, Staff Report, “Rescission of Rule 480 and request for removal from the State Implementation Plan for the San Bernardino County portion of the MDAQMD,” September 26, 2022, pp. 1.

⁴⁴ Id. at 2.

⁴⁵ Id.

The EPA has reviewed and agrees with the MDAQMD's rationale for rescission of SBCAPCD Rule 480. The EPA also notes that Rule 480 does not relate to any requirement of the CAA or the EPA's implementing regulations or establish an emissions limitation or similar requirement and that rescission of the rule from the SIP would have no effect on emissions. Thus, rescission of the rule would not interfere with attainment and RFP or any other requirement of the Act for the purposes of CAA section 110(l). For these reasons, the EPA is proposing to approve the rescission of SBCAPCD Rule 480 from the San Bernardino County portion of the MDAQMD portion of the California SIP.

4. Rescission of SCAQMD Rule 1101, “Secondary Lead Smelters/Sulfur Oxides”

SCAQMD Rule 1101 became applicable to the Riverside County portion of the MDAQMD in 1981.⁴⁶ The EPA has reviewed the materials submitted by the MDAQMD to document the absence of secondary lead smelters within the MDAQMD and has confirmed the District's finding. Because there are no sources subject to the rule, the EPA finds that the rescission of SCAQMD Rule 1101 would not interfere with attainment and RFP or any other requirement of the Act for the purposes of CAA section 110(l) and is proposing to approve the rescission of SCAQMD Rule 1101 from the Riverside County portion of the MDAQMD portion of the California SIP.

⁴⁶ 46 FR 43968 (September 2, 1981).

5. Rescission of SCAQMD Rule 1175, “Control of Emissions From the Manufacture of Polymeric Cellular (Foam) Products”

SCAQMD Rule 1175 became applicable in the Riverside County portion of the MDAQMD in 1992.⁴⁷ The EPA has reviewed the materials submitted by the MDAQMD to document the absence of polymeric cellular foam products manufacturing sources within the MDAQMD and has confirmed the District's finding by using SIC code 3086 and CARB's CEIDARS emissions database. The EPA finds that the rescission of SCAQMD Rule 1175 would not interfere with attainment and RFP or any other requirement of the Act for the purposes of CAA section 110(l) and is proposing to approve the rescission of SCAQMD Rule 1175 from the Riverside County portion of the MDAQMD portion of the California SIP.

⁴⁷ 57 FR 48457 (October 26, 1992).

C. Public Comment and Proposed Action

As authorized in section 110(k)(3) of the Act, the EPA is proposing to approve revisions to the MDAQMD portion of the California SIP submitted by CARB on September 23, 2022, November 30, 2022, May 11, 2023, and January 10, 2024. More specifically, the EPA is proposing the following actions:

• The EPA is proposing to approve submitted MDAQMD Rule 701 because it would strengthen the SIP.

• The EPA is proposing to approve the following rule rescissions because the rescissions of the rules meet all relevant requirements: SCAQMD Rules 405, 409, 466, 466.1, 467, 1101, 1104, 1175, and 1176; SoCalAPCD Rules 432 and 470; and SBCAPCD Rules 432, 470 and 480; and all the SBCAPCD and SCAQMD Regulation VII rules listed in Tables 3 and 4 of this document.

• The EPA is proposing to take no action on the rescissions of SoCalAPCD Rule 464 and SCAQMD Rule 464, other than to add clarifying regulatory text, because they were previously replaced in the applicable SIP by approval of MDAQMD Rule 464. EPA also proposes to take no action on the rescissions of SBCAPCD Rules 466 and 467 because they were previously removed as part of the applicable SIP and regulatory text was previously added to document their removal.

If finalized as proposed, this action would incorporate MDAQMD Rule 701 into the SIP and would remove from the applicable SIP the rules that have been rescinded or superseded. We will accept comments from the public on this proposal until October 14, 2025.

III. Incorporation by Reference

In this rule, the EPA is proposing to include in a final EPA rule regulatory text that includes incorporation by reference. In accordance with requirements of 1 CFR 51.5, the EPA is proposing to incorporate by reference MDAQMD Rule 701, which establishes certain procedures and requirements for air pollution emergencies. The EPA is also proposing to include in a final EPA rule regulatory text that deletes certain rules that were previously incorporated by reference from the applicable California SIP. The rules that were previously incorporated by reference are SCAQMD Rules 405, 409, 464, 466, 466.1, 467, 1101, 1104, 1175, and 1176; SoCalAPCD Rules 432, 464 and 470; and SBCAPCD Rules 432, 470 and 480 as listed in Table 2 of this document, and the air pollution emergency rules listed in Tables 3 and 4 of this document. The EPA has made, and will continue to make, these materials available through www.regulations.gov and at the EPA Region IX Office (please contact the person identified in the FOR FURTHER INFORMATION CONTACT section of this preamble for more information).

IV. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law, or rescissions of state law, as meeting Federal requirements and does not impose additional requirements beyond those imposed by state law. For that reason, this proposed action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Nitrogen dioxide, Ozone, Particulate matter, Reporting and recordkeeping requirements, Sulfur dioxide, Volatile organic compounds.

Authority: 42 U.S.C. 7401 et seq.

Dated: September 3, 2025.
Michael Martucci,
Acting Regional Administrator, Region IX.

[FR Doc. 2025-17528 Filed 9-10-25; 8:45 am]

BILLING CODE 6560-50-P